DEPARTMENT OF COMMERCE

United States Patent and Trademark Office

Submission for OMB Review; Comment Request; Global Intellectual Property Academy (GIPA) Surveys

The United States Patent and Trademark Office (USTPO) will submit to the Office of Management and Budget (OMB) for clearance the following proposal for collection of information under the provisions of the Paperwork Reduction Act (44 U.S.C. Chapter 35).

Title: Global Intellectual Property Academy (GIPA) Surveys.

OMB Control Number: 0651-0065.

Form Number(s): None.

Type of Request: Regular.

Number of Respondents: 450 per year.

Average Hours per Response: 0.25 hours (15 minutes).

Burden Hours: 112.50 hours.

Cost Burden: $0.00.

Needs and Uses: The pre-program, post-program, and alumni surveys will be used to obtain feedback from the participants of the various GIPA training classes. The pre-program surveys allow participants to provide feedback on the program expectations and training needs immediately prior to participating in the GIPA training programs. The post-program surveys allow participants to provide feedback on program effectiveness, service, facilities, teaching practices, and processes immediately after completing the GIPA training programs. The alumni surveys allow participants to provide feedback on program effectiveness approximately one year after completing the GIPA training programs.

The USPTO will use the data collected from the surveys to evaluate the percentage of foreign officials trained by GIPA who have initiated or implemented a positive intellectual property change in their organization and to evaluate the percentage of foreign officials trained by GIPA who increased their expertise in intellectual property. The data will also be used to evaluate the satisfaction of the participants with the intellectual property program and the value of the experience as it relates to future job performance. The USPTO also uses the survey data to meet organizational performance and accountability goals.

Affected Public: Businesses or other for-profits; not-for-profit institutions.

Frequency: On occasion.

Respondent's Obligation: Voluntary.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0065 copy request” in the subject line of the message.

• Mail: Marcie Lovett, Records and Information Governance Division Director, Office of the Chief Technology Officer, United States Patent and Trademark Office, P.O. Box 1450, Alexandria, VA 22313-1450.

Written comments and recommendations for the proposed information collection should be sent on or before August 7, 2017 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2017-14182 Filed 7-5-17; 8:45 am]

BILLING CODE 3510-16-P